NATIONAL AERONAUTICS AND SPACE ADMINISTRATION

[Notice: 23-050]

Earth Science Advisory Committee; Unidentified Aerial Phenomena Independent Study Team; Meeting

AGENCY: National Aeronautics and Space Administration.

ACTION: Notice of meeting.

SUMMARY: In accordance with the Federal Advisory Committee Act, the National Aeronautics and Space Administration (NASA) announces a meeting of the Unidentified Aerial Phenomena Independent Study Team (UAPIST) Subcommittee of the Earth Science Advisory Committee. The meeting will be held for the purpose of soliciting, from the scientific community and other persons, scientific and technical information relevant to program planning.

DATES: Wednesday, May 31, 2023, 10:30 a.m.-2:30 p.m. eastern time.

ADDRESSES: Public attendance will be virtual only, broadcast at https://www.nasa.gov/live/.

FOR FURTHER INFORMATION CONTACT: Dr. Daniel Evans, Designated Federal Officer, Science Mission Directorate, NASA Headquarters, Washington, DC 20546, via email at daniel.a.evans@nasa.gov, (202) 358-3882.

SUPPLEMENTARY INFORMATION: This meeting will be broadcast live at https://www.nasa.gov/live/, and public participation is available by submitting and upvoting questions at https://nasa.cnf.io/sessions/hh4r/ starting approximately two weeks before the date of the meeting. Further information on the UAPIST may be found at https://science.nasa.gov/uap.

The agenda for the meeting includes the following topics:

—NASA Senior Leadership perspective

—Department of Defense and Intelligence community perspective

—Pathways for scientific analysis of Unidentified Aerial Phenomena

—Preliminary findings of the Unidentified Aerial Phenomena Independent Study Team

It is imperative that this meeting be held on this day to accommodate the scheduling priorities of the key participants.

Patricia Rausch,
Advisory Committee Management Officer, National Aeronautics and Space Administration.

[FR Doc. 2023-10219 Filed 5-12-23; 8:45 am]

BILLING CODE 7510-13-P